FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 29, 2023.

A. Federal Reserve Bank of Chicago (Colette A. Fried, Assistant Vice President) 230 South LaSalle Street, Chicago, Illinois 60690-1414. Comments can also be sent electronically to Comments.applications@chi.frb.org:

1. Kristine L. MacDonald Ixonia Trust, Joan P. Lubar Ixonia Trust, Susan A. Lubar Ixonia Trust, and Sheldon B. and Marianne Lubar Ixonia Trust, all of Milwaukee, Wisconsin, and David J. Lubar, as trustee to all the aforementioned trusts, Fox Point, Wisconsin;

Ixonia Bancshares Investors, LP, a Delaware limited partnership and qualified family partnership, Ixonia, Wisconsin;

David J. Lubar Ixonia Trust, Milwaukee, Wisconsin, and Patrick Lubar, as trustee, Fox Point, Wisconsin; and the Ixonia Control Trust, Milwaukee, Wisconsin, David J. Lubar, as trustee, and Patrick Lubar, as secondary trustee; to join the Lubar Family Control Group, a group acting in concert, to acquire voting shares of Ixonia Bancshares, Inc., and thereby indirectly acquire voting shares of Ixonia Bank, both of Ixonia, Wisconsin.

B. Federal Reserve Bank of Kansas City (Jeffrey Imgarten, Assistant Vice President) One Memorial Drive, Kansas City, Missouri 64198-0001. Comments can also be sent electronically to KCApplicationComments@kc.frb.org:

1. Randall J. Blue, Sedalia, Colorado, Kipton J. Blue, Leawood, Kansas, and Karl R. Swartz, Wichita, Kansas, as co-trustees of the V. Jerry Blue Master Trust, the Republic Financial Trust 1, and the Republic Financial Trust 2, all of Wichita, Kansas; to become members of the Guenthner/Swartz/Blue Control Group, a group acting in concert, to acquire voting shares of Republic Financial Corporation, and thereby indirectly acquire voting shares of Southwest National Bank, both of Wichita, Kansas.

In addition, Karl R. Swartz, to become co-trustee of the V. Jerry Blue Irrevocable Grandchildren's GST Trust, the Justin R. Blue Share of Grandchildren's Irrevocable GST Trust, the V. Gerry Blue Grandchildren's Exempt GST Trust, the Randall J. Blue Share of V. Jerry Blue Insurance Trust No. 1, the Kipton R. Blue Share of V. Jerry Blue Insurance Trust No. 1, the Justin R. Blue Share of V. Jerry Blue Insurance Trust No. 2, the Zachary W. Blue Share of V. Jerry Blue Insurance Trust No. 2, the Taylor B. Blue Share of V. Jerry Blue Insurance Trust No. 2, the Adam S. Blue Share of V. Jerry Blue Insurance Trust No. 2, the Benjamin J. Blue Share of V. Jerry Blue Insurance Trust No. 2, and the Amanda L. Blue Share of V. Jerry Blue Insurance Trust No. 2, all of Wichita, Kansas; to acquire voting shares of Republic Financial Corporation, and thereby indirectly acquire voting shares of Southwest National Bank.

2. The Bruce L. Trimble Irrevocable Trust fbo Morgan Trimble, Morgan Trimble, as trustee, both of LeRoy, Kansas; to join the Trimble Family Group, a group acting in concert, to acquire voting shares of Flint Hills Bancshares, Inc. (the Company), and thereby indirectly acquire voting shares of The Citizens State Bank (the Bank), both of Gridley, Kansas.

In addition, Bruce L. Trimble, Subshare of the Ival L. Trimble 12/9/97 Irrevocable Trust, Cynthia Renee Trimble, Subshare of the Ival L. Trimble 12/9/97 Irrevocable Trust, Tanner Trimble, Subshare of the Ival L. Trimble 12/9/97 Irrevocable Trust, Morgan Trimble, Subshare of the Ival L. Trimble 12/9/97 Irrevocable Trust, Bruce L. Trimble, as sole trustee of these subshare trusts and all of Leroy, Kansas;

Randall L. Trimble, Subshare of the Ival L. Trimble 12/9/97 Irrevocable Trust, Walker Trimble, Subshare of the Ival L. Trimble 12/9/97 Irrevocable Trust, both of Burlington, Kansas; Kennedy Trimble, Subshare of the Ival L. Trimble 12/9/97 Irrevocable Trust, Lenexa, Kansas; Randall L. Trimble, as sole trustee of these subshare trusts, Burlington, Kansas; and

Cynthia Renee Trimble Revocable Living Trust for Closely Held Stock Dated January 30, 2019, Cynthia Trimble, as trustee, both of Leroy, Kansas;

To join the Trimble Family Group, a group acting in concert, to retain voting shares of the Company, and and thereby indirectly retain voting shares of the Bank. Bruce L. Trimble and Randall L. Trimble, both individually, were previously permitted by the Reserve Bank to control the company and become members of the Trimble Family Group.

B. Federal Reserve Bank of Dallas (Karen Smith, Director, Mergers & Acquisitions) 2200 North Pearl Street, Dallas, Texas 75201-2272. Comments can also be sent electronically to Comments.applications@dal.frb.org:

1. Margaret Long, Montague, Texas; to retain voting shares of Sanger Bancshares, Inc., and indirectly retain voting shares of Sanger Bank, both of Sanger, Texas.

Board of Governors of the Federal Reserve System.
Michele Taylor Fennell,
Deputy Associate Secretary of the Board.

[FR Doc. 2023-25227 Filed 11-14-23; 8:45 am]

BILLING CODE 6210-01-P